DEPARTMENT OF COMMERCE

National Oceanic and Atmospheric Administration

RIN 0648-XG259

Marine Fisheries Advisory Committee; Charter Renewal

AGENCY: National Marine Fisheries Service (NMFS), National Oceanic and Atmospheric Administration (NOAA), Commerce.

ACTION: Notice of renewed charter.

SUMMARY: Notice is hereby given of the 2-year renewed charter for the Marine Fisheries Advisory Committee (MAFAC), signed on April 12, 2018.

FOR FURTHER INFORMATION CONTACT: Heidi Lovett, Assistant Federal Program Officer, MAFAC, 301-427-8034.

SUPPLEMENTARY INFORMATION: As required by section 10(a)(2) of the Federal Advisory Committee Act, 5 U.S.C. App. (1982), notice is hereby given of the renewed charter for MAFAC. MAFAC was established by the Secretary of Commerce (Secretary) on February 17, 1972, to advise the Secretary on all living marine resource matters that are the responsibility of the Department of Commerce. This Committee advises and reviews the adequacy of living marine resources policies and programs to meet the needs of commercial and recreational fisheries, aquaculture, and environmental, consumer, academic, tribal, governmental, and other national interests. The Committee's charter must be renewed every 2 years from the date of the last renewal. The charter can be accessed online at https://www.fisheries.noaa.gov/national/partners/marine-fisheries-advisory-committee-charter.

Dated: June 1, 2018.
Jennifer L. Lukens,
Federal Program Officer, Marine Fisheries Advisory Committee, National Marine Fisheries Service.

[FR Doc. 2018-12198 Filed 6-6-18; 8:45 am]

BILLING CODE 3510-22-P